FEDERAL DEPOSIT INSURANCE CORPORATION

[OMB Control No. 3064-0215]

Agency Information Collection Activities: Proposed Collection Renewal; Comment Request

AGENCY: Federal Deposit Insurance Corporation (FDIC).

ACTION: Notice and request for comment.

SUMMARY: The FDIC, as part of its obligations under the Paperwork Reduction Act of 1995 (PRA), invites the general public and other Federal agencies to take this opportunity to comment on the survey collection instrument for its ninth biennial survey of households, the FDIC National Survey of Unbanked and Underbanked Households (Household Survey). This survey is assigned OMB Control No. 3064-0215. The 2025 Household Survey is scheduled to be conducted in partnership with the U.S. Census Bureau as a supplement to its June 2025 Current Population Survey (CPS). The survey collects information on U.S. households' use of bank accounts, prepaid cards, nonbank online payment services and other nonbank financial transaction services, and bank and nonbank credit. The results of these biennial surveys will be published by the FDIC, and help inform policymakers, bankers, and researchers about bank account ownership and household use of the banking system and nonbank financial products and services to meet their financial needs.

DATES: Comments must be submitted on or before December 24, 2024.

ADDRESSES: Interested parties are invited to submit written comments to the FDIC by any of the following methods:

• Agency Website: https://www.fdic.gov/resources/regulations/federal-register-publications/.

• Email: comments@fdic.gov. Include the name and number of the collection in the subject line of the message.

• Mail: Manny Cabeza (202-898-3767), Regulatory Counsel, MB-3128, Federal Deposit Insurance Corporation, 550 17th Street NW, Washington, DC 20429.

• Hand Delivery: Comments may be hand-delivered to the guard station at the rear of the 17th Street NW building (located on F Street NW), on business days between 7:00 a.m. and 5:00 p.m.

All comments should refer to “Household Survey.” A copy of the comments may also be submitted to the OMB desk officer for the FDIC: Office of Information and Regulatory Affairs, Office of Management and Budget, New Executive Office Building, Washington, DC 20503.

FOR FURTHER INFORMATION CONTACT: Manny Cabeza, Regulatory Counsel, 202-898-3767, mcabeza@fdic.gov, MB-3128, Federal Deposit Insurance Corporation, 550 17th Street NW, Washington, DC 20429.

SUPPLEMENTARY INFORMATION: The FDIC is requesting OMB approval for the following collection of information:

Title: FDIC National Survey of Unbanked and Underbanked Households.

OMB Number: 3064-0215.

Frequency of Response: Once.

Affected Public: Individuals residing in U.S. households.

Estimated Number of Respondents: 40,000.

Average Time Per response: 9 minutes (0.15 hours) per respondent.

Estimated Total Annual Burden: 6,000 hours.

General Description of Collection: The FDIC is committed to expanding Americans' access to safe, secure, and affordable banking services, which is integral to the FDIC's mission of maintaining the stability of, and public confidence in, the U.S. financial system. The Household Survey is one avenue by which the FDIC responds to a congressional mandate contained in section 7 of the Federal Deposit Insurance Reform Conforming Amendments Act of 2005 (Reform Act) (Pub. L. 109-173) for the FDIC to conduct ongoing surveys “on efforts by insured depository institutions to bring those individuals and families who have rarely, if ever, held a checking account, a savings account or other type of transaction or check cashing account at an insured depository institution (hereafter in this section referred to as the `unbanked') into the conventional finance system.” Section 7 further instructs the FDIC to consider several factors in its conduct of the surveys, including (1) “what cultural, language and identification issues as well as transaction costs appear to most prevent `unbanked' individuals from establishing conventional accounts;” and (2) “what is a fair estimate of the size and worth of the “unbanked” market in the United States.”

The Household Survey collects information on bank account ownership, which provides a factual basis for measuring the number and percentage of households that are unbanked. It is the only population-representative survey conducted at the national level that provides state-level estimates of the size and characteristics of unbanked households for all 50 States and the District of Columbia. The Household Survey also collects information from unbanked households about the reasons that they do not have a bank account and their interest in having a bank account.

Nonbank financial companies are playing an increasingly important role in the provision of financial products and services in the U.S., and households may use a variety of bank and nonbank financial products and services to meet their needs. Consequently, the Household Survey collects information on whether and how households use a wide range of bank and nonbank financial products and services.

To obtain this information, the FDIC partners with the U.S. Census Bureau, which administers the Household Survey under an FDIC-sponsored supplement to its CPS. The Household Survey has been administered every other year since January 2009. The previous survey questionnaires and survey results can be accessed through the following link: https://fdic.gov/analysis/household-survey.

Consistent with the statutory mandate to conduct the surveys on an ongoing basis, the FDIC already has in place arrangements for conducting the ninth Household Survey as a supplement to the June 2025 CPS. Prior to finalizing the 2025 survey questionnaire, the FDIC seeks to solicit public comment on whether changes to the existing instrument are desirable and, if so, to what extent. It should be noted that, as a supplement of the CPS survey, the Household Survey needs to adhere to specific parameters that include limits in the length and sensitivity of the questions that can be asked of CPS respondents. Interested members of the public may obtain a copy of the proposed survey questionnaire on the following web page: https://www.fdic.gov/federal-register-publications/2025-fdic-national-survey-unbanked-and-underbanked-households.

Request for Comment

Comments are invited on (a) whether the collection of information is necessary for the proper performance of the FDIC's functions, including whether the information has practical utility; (b) the accuracy of the estimates of the burden of the information collections, including the validity of the methodology and assumptions used; (c) ways to enhance the quality, utility, and clarity of the information to be collected; and (d) ways to minimize the burden of the collection of information on respondents, including through the use of automated collection techniques or other forms of information technology. All comments will become a matter of public record.

Federal Deposit Insurance Corporation.
Dated at Washington, DC, on October 22, 2024.
James P. Sheesley,
Assistant Executive Secretary.

[FR Doc. 2024-24911 Filed 10-24-24; 8:45 am]

BILLING CODE 6714-01-P